Title 3—

The President

Space Policy Directive-2 of May 24, 2018

Streamlining Regulations on Commercial Use of Space

Memorandum for the Vice President[,] the Secretary of State[,] the Secretary of Defense[,] the Secretary of Commerce[,] the Secretary of Transportation[,] the Secretary of Homeland Security[,] the Secretary of Labor[,] the Director of National Intelligence[,] the Director of the Office of Management and Budget[,] the Assistant to the President for National Security Affairs[,] the Administrator of the National Aeronautics and Space Administration[,] the Director of the Office of Science and Technology Policy[,] the Assistant to the President for Homeland Security and Counterterrorism[, and] the Chairman of the Joint Chiefs of Staff

Section 1. Policy. It is the policy of the executive branch to be prudent and responsible when spending taxpayer funds, and to recognize how government actions, including Federal regulations, affect private resources. It is therefore important that regulations adopted and enforced by the executive branch promote economic growth; minimize uncertainty for taxpayers, investors, and private industry; protect national security, public-safety, and foreign policy interests; and encourage American leadership in space commerce.

Sec. 2. Launch and Re-entry Licensing. (a) No later than February 1, 2019, the Secretary of Transportation shall review regulations adopted by the Department of Transportation that provide for and govern licensing of commercial space flight launch and re-entry for consistency with the policy set forth in section 1 of this memorandum and shall rescind or revise those regulations, or publish for notice and comment proposed rules rescinding or revising those regulations, as appropriate and consistent with applicable law.

(b) Consistent with the policy set forth in section 1 of this memorandum, the Secretary of Transportation shall consider the following:

(i) requiring a single license for all types of commercial space flight launch and re-entry operations; and

(ii) replacing prescriptive requirements in the commercial space flight launch and re-entry licensing process with performance-based criteria.

(c) In carrying out the review required by subsection (a) of this section, the Secretary of Transportation shall coordinate with the members of the National Space Council.

(d) The Secretary of Defense, the Secretary of Transportation, and the Administrator of the National Aeronautics and Space Administration shall coordinate to examine all existing U.S. Government requirements, standards, and policies associated with commercial space flight launch and re-entry operations from Federal launch ranges and, as appropriate and consistent with applicable law, to minimize those requirements, except those necessary to protect public safety and national security, that would conflict with the efforts of the Secretary of Transportation in implementing the Secretary's responsibilities under this section.

Sec. 3. Commercial Remote Sensing. (a) Within 90 days of the date of this memorandum, the Secretary of Commerce shall review the regulations adopted by the Department of Commerce under Title II of the Land Remote Sensing Policy Act of 1992 (51 U.S.C. 60101 et seq.) for consistency with the policy set forth in section 1 of this memorandum and shall rescind or revise those regulations, or publish for notice and comment proposed rules rescinding or revising those regulations, as appropriate and consistent with applicable law.

(b) In carrying out the review required by subsection (a) of this section, the Secretary of Commerce shall coordinate with the Secretary of State, the Secretary of Defense, the Administrator of the National Aeronautics and Space Administration, and, as appropriate, the Chairman of the Federal Communications Commission.

(c) Within 120 days of the date of the completion of the review required by subsection (a) of this section, the Secretary of Commerce, in coordination with the Secretary of State and the Secretary of Defense, shall transmit to the Director of the Office of Management and Budget a legislative proposal to encourage expansion of the licensing of commercial remote sensing activities. That proposal shall be consistent with the policy set forth in section 1 of this memorandum.

Sec. 4. Reorganization of the Department of Commerce. (a) To the extent permitted by law, the Secretary of Commerce shall consolidate in the Office of the Secretary of Commerce the responsibilities of the Department of Commerce with respect to the Department's regulation of commercial space flight activities.

(b) Within 30 days of the date of this memorandum, the Secretary of Commerce shall transmit to the Director of the Office of Management and Budget a legislative proposal to create within the Department of Commerce an entity with primary responsibility for administering the Department's regulation of commercial space flight activities.

Sec. 5. Radio Frequency Spectrum. (a) The Secretary of Commerce, in coordination with the Director of the Office of Science and Technology Policy, shall work with the Federal Communications Commission to ensure that Federal Government activities related to radio frequency spectrum are, to the extent permitted by law, consistent with the policy set forth in section 1 of this memorandum.

(b) Within 120 days of the date of this memorandum, the Secretary of Commerce and the Director of the Office of Science and Technology Policy, in consultation with the Chairman of the Federal Communications Commission, and in coordination with the members of the National Space Council, shall provide to the President, through the Executive Secretary of the National Space Council, a report on improving the global competitiveness of the United States space sector through radio frequency spectrum policies, regulation, and United States activities at the International Telecommunication Union and other multilateral forums.

Sec. 6. Review of Export Licensing Regulations. The Executive Secretary of the National Space Council, in coordination with the members of the National Space Council, shall:

(a) initiate a review of export licensing regulations affecting commercial space flight activity;

(b) develop recommendations to revise such regulations consistent with the policy set forth in section 1 of this memorandum and with applicable law; and

(c) submit such recommendations to the President, through the Vice President, no later than 180 days from the date of this memorandum.

Sec. 7. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of Transportation is authorized and directed to publish this memorandum in the Federal Register.

THE WHITE HOUSE,

Washington, May 24, 2018

[FR Doc. 2018-11769

Filed 5-29-18; 11:15 am]

Billing code 4910-9X-P